DEPARTMENT OF ENERGY

Federal Energy Regulatory Commission

Notice of Revised Exhibit G Drawings, and Soliciting Comments, Motions to Intervene, and Protests

May 16, 2000.

a. Application Type: Revised Exhibit G Drawings for Nisqually Project.

b. Project No: 1862-038 and 1862-059.

c. Dates Filed: December 30, 1997; supplemented December 27, 1999 and May 5, 2000.

d. Applicant: Tacoma Power.

e. Name of Project: Nisqually Project.

f. Location: The Nisqually Project is on the Nisqually River in Pierce, Thurston, and Lew Counties, Washington. The project is partially located on lands of the Mount Baker-Snoqualmie National Forest.

g. Filed Pursuant to: Federal Power Act, 16 U.S.C. 791(a)-825(r)

h. Applicant Contact: Mr. Terry Ryan, Tacoma Power, 3628 South 35th Street, Tacoma, Washington 98409-3192; (253) 502-8793.

i. FERC Contact: Any questions on this notice should be addressed to Allyson Lichtenfels at (202) 219-3274 or by e-mail at allyson.lictenfels@ferc.fed.us.

j. Deadline for Filing Comments and/or Motions: June 22, 2000. Please include the project number (1862-038 and 1862-059) on any comments or motions filed.

k. Description of Filing: Tacoma Power filed revised exhibit G drawings on December 30, 1997, based on updated deed research of sales and trades of property and aerial surveys. Exhibit G, sheet 2 of 9, includes lands owned by the licensee added to the project boundary between La Grande spillway and powerhouse, near Township 16N, R3E and R4E. It also reflects the removal of a small parcel of land from the project boundary. Exhibit G drawings, sheets 5 and 6, reflect a reduction in the acreage of federal lands from 38 to 22 acres, to be consistent with proposed land exchanges between the United States Forest Service and the licensee.

l. Locations of the Application: A copy of the application is available for inspection any reproduction at the Commission's Public Reference Room, located at 888 First Street NE., Room 2A, Washington, DC 20426, or by calling (202) 208-1371. This filing may be viewed on http://www.ferc.fed.us/online/rims.htm [call (202) 208-2222 for assistance]. A copy is also available for inspection and reproduction at the address in item h above.

m. Individuals desiring to be included on the Commission's mailing list should be indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS” “RECOMMENDATIONS FOR TERMS AND CONDITIONS”, “PROTEST”, or “MOTION TO INTERVENE”, as applicable, and the Project Number of the particular application to which the filing refers. Any of the above-named documents must be filed by providing the original and the number of copies provided by the Commission's regulation to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If any agency does not file comments within the time specified for filing comments, it will be presumed to have no comments. One copy of an agency's comments must also be sent to the Applicant's representatives.

David P. Boergers,
Secretary.

[FR Doc. 00-12716 Filed 5-19-00; 8:45 am]

BILLING CODE 6717-01-M